DEPARTMENT OF THE TREASURY

Office of Foreign Assets Control

Additional Designations of Individuals Pursuant to Executive Order 13448

AGENCY: Office of Foreign Assets Control, Treasury.

ACTION: Notice.

SUMMARY: The Treasury Department's Office of Foreign Assets Control (“OFAC”) is publishing the names of three newly-designated individuals and four entities whose property and interests in property are blocked pursuant to Executive Order 13448 of October 18, 2007, “Blocking Property and Prohibiting Certain Transactions Related to Burma.”

DATES: The designation by the Director of OFAC of three individuals and four entities identified in this notice, pursuant to Executive Orders 13448, is effective February 5, 2008.

FOR FURTHER INFORMATION CONTACT: Assistant Director, Compliance Outreach & Implementation, Office of Foreign Assets Control, Department of the Treasury, 1500 Pennsylvania Avenue, NW. (Treasury Annex), Washington, DC 20220, Tel.: 202/622-2490.

SUPPLEMENTARY INFORMATION:

Electronic and Facsimile Availability

Information about these designations and additional information concerning OFAC are available from OFAC's Web site (http://www.treas.gov/ofac) or via facsimile through a 24-hour fax-on-demand service, Tel.: 202/622-0077.

Background

On October 18, 2007, the President signed Executive Order 13448 (the “Order”) pursuant to, inter alia, the International Emergency Economic Powers Act (50 U.S.C. 1701, et. seq.). In the Order, the President took additional steps with respect to, and expanded, the national emergency declared in Executive Order 13047 of May 20, 1997, to address the Government of Burma's continued repression of the democratic opposition. The President identified twelve individuals and entities as subject to the economic sanctions in the Annex to the Order.

Section 1 of the Order blocks, with certain exceptions, all property and interests in property that are in, or hereafter come within, the United States, or within the possession or control of United States persons, of the persons listed in the Annex, as well as those persons determined by the Secretary of the Treasury, after consultation with the Secretary of State, to satisfy any of the criteria set forth in subparagraphs (b)(i)-(b)(vi) of Section 1. On February 5, 2008, the Director of OFAC exercised the Secretary of the Treasury's authority to designate, pursuant to one or more of the criteria set forth in Section 1, subparagraphs (b)(i)-(b)(vi) of the Order, the following three individuals and four entities, whose names have been added to the list of Specially Designated Nationals and whose property and interests in property are blocked pursuant to Executive Order 13448:

Individuals

1. MANN, AUNG THET (a.k.a. SHWE MANN KO KO); Burma; DOB 19 Jun 1977; c/o Ayer Shwe Wah Company Limited; c/o Htoo Group of Companies; c/o Htoo Trading Company Limited (individual) [BURMA]

2. THEIN, U KYAW; Burma; 503 Sembawang Rd., #02-29, 757707, Singapore; DOB 25 Oct 1947; citizen Burma; nationality Burma; National ID No. S2733659J (Singapore) issued 7 Jul 2005; c/o Air Bagan Holdings Pte. Ltd.; c/o Htoo Wood Products Pte. Ltd.; c/o Pavo Aircraft Leasing Pte. Ltd.; c/o Pavo Trading Pte. Ltd.; permanent resident Singapore (individual) [BURMA]

3. THIHA (a.k.a. THI HA); Burma; DOB 24 Jun 1960; c/o Htoo Group of Companies; c/o Htoo Trading Company Limited (individual) [BURMA]

Entities

1. AYER SHWE WAH COMPANY LIMITED (a.k.a. AYER SHWE WA; a.k.a AYE YAR SHWE WAH; a.k.a. AYEYA SHWE WAR COMPANY); 5 Pyay Road, Hlaing Township, Yangon, Burma [BURMA]

2. HTOO GROUP OF COMPANIES; 5 Pyay Road, Hlaing Township, Yangon, Burma [BURMA]

3. MYANMAR AVIA EXPORT COMPANY LIMITED (a.k.a. MYANMAR AVIA EXPORT) [BURMA]

4. PAVO AIRCRAFT LEASING PTE. LTD.; 3 Shenton Way, #24-02 Shenton House, 068805, Singapore [BURMA]

Dated: February 5, 2008.
Adam J. Szubin,
Director, Office of Foreign Assets Control.

[FR Doc. E8-2425 Filed 2-8-08; 8:45 am]

BILLING CODE 4811-42-P